SURFACE TRANSPORTATION BOARD

[Docket No. FD 36863]

South Central Florida Express, Inc.—Trackage Rights Exemption—Florida East Coast Railway, LLC

South Central Florida Express, Inc. (SCFE) has filed a verified notice of exemption under 49 CFR 1180.2(d)(7) for after-the-fact exemption authority to renew, and to revise, certain overhead and local trackage rights previously granted to it by the Florida East Coast Railway Company (FEC), now known as Florida East Coast Railway, LLC (FECR).¹ SCFE states that its overhead trackage rights extend over FECR's line of railroad between milepost K-0.0 near Ft. Pierce, Fla., and milepost K-15.0, and that its local trackage rights extend between milepost K-15.0 and milepost K-70.9, at or near Lake Harbor, Fla. (the Line).

¹ SCFE initially submitted its verified notice of exemption on November 18, 2025. However, by decision served on December 17, 2025, SCFE was directed to submit supplemental information to correct certain errors and omissions identified in its verified notice of exemption. SCFE filed the requested supplemental information on December 30, 2025. Therefore, December 30, 2025, is considered the filing date for SCFE's verified notice and is the basis for all dates in this notice of exemption.

According to the verified notice, SCFE originally acquired the trackage rights from FEC in 1998.² SCFE states, however, that, in 2016, as the end of the 20-year term of its initial 1998 agreement approached, FECR ³ and SCFE entered into a first amendment to the parties' trackage rights agreement, effective December 6, 2016 (the First Amendment). According to SCFE, the First Amendment extended the term of the trackage rights agreement and modified the rights granted to SCFE. Specifically, under the First Amendment, (1) SCFE was granted nonexclusive local trackage rights to operate its trains carrying certain carload products, operated by SCFE's crews, over the Line; (2) SCFE's local trackage rights would include the right to develop new customers between milepost K-15.0 and milepost 70.9; and (3) SCFE's use of the Line would be in common with FECR and other users permitted by FECR, along with other conditions. SCFE notes, however, that due to an inadvertent error, SCFE did not seek exemption authority for the renewal of the trackage rights in 2016. SCFE states that it now seeks after-the-fact authority to correct its error.⁴

² See S. Cent. Fla. Express, Inc.—Trackage Rights Exemption—Fla. E. Coast Ry., FD 33562 (STB served Mar. 11, 1998). The Board's 1998 notice of exemption identified the endpoint for SCFE's local trackage rights as milepost K-70.4. SCFE confirmed in its December 30, 2025 supplemental filing that the endpoint of the Line is milepost K-70.9.

³ SCFE states that, upon FEC's merger with FECR, FECR was assigned FEC's obligations under the agreement.

⁴ SCFE states that it is not necessarily seeking retroactive authority.

The transaction may be consummated on or after January 29, 2026, the effective date of the exemption (30 days after the verified notice was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions for stay must be filed no later than January 22, 2026 (at least seven days before the exemption becomes effective).

All pleadings, referring to Docket No. FD 36863, must be filed with the Surface Transportation Board via e-filing on the Board's website or in writing addressed to 395 E Street SW, Washington, DC 20423-0001. In addition, a copy of each pleading must be served on SCFE's representative, Thomas W. Wilcox, Law Office of Thomas W. Wilcox, LLC, 1629 K Street NW, Suite 300, Washington, DC 20006.

According to SCFE, this action is categorically excluded from environmental review under 49 CFR 1105.6(c)(3) and from historic preservation reporting requirements under 49 CFR 1105.8(b)(3).

Board decisions and notices are available at www.stb.gov.

Decided: January 8, 2026.
By the Board, Anika S. Cooper, Chief Counsel, Office of Chief Counsel.
Kenyatta Clay,
Clearance Clerk.

[FR Doc. 2026-00625 Filed 1-14-26; 8:45 am]

BILLING CODE 4915-01-P